DEPARTMENT OF COMMERCE

International Trade Administration

[A-851-802]

Notice of Amended Preliminary Determination of Sales at Less Than Fair Value: Certain Small Diameter Carbon and Alloy Seamless Standard, Line, and Pressure Pipe From the Czech Republic

AGENCY: Import Administration, International Trade Administration, Department of Commerce.

EFFECTIVE DATE: March 10, 2000.

FOR FURTHER INFORMATION CONTACT: Dennis McClure at (202) 482-0984; AD/CVD Enforcement, Office VI, Group II, Import Administration, Room 1870, International Trade Administration, U.S. Department of Commerce, 14th Street and Constitution Avenue, N.W., Washington, DC 20230.

Amendment of Preliminary Determination

The Department of Commerce (the Department) is amending the preliminary determination in the antidumping duty investigation of certain small diameter carbon and alloy seamless standard, line, and pressure pipe from the Czech Republic. This amended preliminary determination results in revised antidumping rates.

On January 28, 2000, the Department issued its affirmative preliminary determination in this proceeding. See Notice of Preliminary Determination of Sales at Less Than Fair Value and Postponement of Final Determination: Certain Small Diameter Carbon and Alloy Seamless Standard, Line, and Pressure Pipe from the Czech Republic, 65 FR 5599 (February 4, 2000).

On February 10, 2000, the petitioners ¹ submitted allegations of certain ministerial errors. The petitioners alleged that the Department applied an incorrect conversion to U.S. packing costs, and, that the Department's margin calculation program language incorrectly matched U.S. sales to constructed value when appropriate identical or similar sales matches were available. On February 10, 2000, Nova Hut, the respondent, submitted a ministerial error allegation regarding our product matching criteria alleging that the Department did not match certain U.S. sales to the most similar home market product.

¹ The petitioners in this investigation are Gulf States Tube, a Division of Vision Metals, Inc.; Koppel Steel Corporation; Sharon Tube Corporation; USS/Kobe Steel Corporation; U.S. Steel Group, a unit of USX Corporation; and the United Steelworkers of America.

The Department has reviewed its preliminary calculations and agrees with the petitioners that it made certain ministerial errors within the meaning of 19 CFR 351.224(f) and (g). However, we disagree with Nova Hut that our criteria for matching U.S. and home market products contained a ministerial error. See “Ministerial Error Allegations for the Preliminary Determination” memorandum to Holly A. Kuga, Acting Deputy Assistant Secretary for Import Administration, Group II, February 24, 2000, on file in room B-099 of the Main Commerce building.

As a result of our analysis of the petitioners' allegations, we are amending our preliminary determination to revise the antidumping rate for Nova Hut in accordance with 19 CFR 351.224(e), along with the corresponding correction to the “all others” rate, as listed below. Suspension of liquidation will be revised accordingly and parties shall be notified of this determination, in accordance with sections 733(d) and (f) of the Act.

The revised weighted-average dumping margins are as follows:

Manufacturer/exporter | Weighted-average margin percentage
Nova Hut | 32.26
All Others | 32.26

This determination is issued and published pursuant to sections 733(d) and 777(i)(1) of the Act.

Dated: March 6, 2000.
Robert S. LaRussa,
Assistant Secretary for Import Administration.

[FR Doc. 00-5936 Filed 3-9-00; 8:45 am]

BILLING CODE 3510-DS-P